DEPARTMENT OF THE INTERIOR

Fish and Wildlife Service

[FWS-R9-WSFR-2010-N195] [91400-5420-Survey-7B and 91400-9782-Survey-7B]

Information Collection Sent to the Office of Management and Budget (OMB) for Approval; OMB Control Number 1018-0088; National Survey of Fishing, Hunting, and Wildlife-Associated Recreation (FHWAR)

AGENCY: Fish and Wildlife Service, Interior.

ACTION: Notice; request for comments.

SUMMARY: We (Fish and Wildlife Service) have sent an Information Collection Request (ICR) to OMB for review and approval. We summarize the ICR below and describe the nature of the collection and the estimated burden and cost. We may not conduct or sponsor and a person is not required to respond to a collection of information unless it displays a currently valid OMB control number.

DATES: You must send comments on or before October 12, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION: OMB Control Number: 1018-0088.

Title: National Survey of Fishing, Hunting, and Wildlife-Associated Recreation (FHWAR).

Service Form Number(s): None.

Type of Request: Reinstatement with change of a previously approved information collection.

Affected Public: Individuals and households.

Respondent's Obligation: Voluntary.

Frequency of Collection: Household screen interviews and the first detailed sportsperson and wildlife-watcher interviews will be conducted April-June 2011. The second detailed interviews will be conducted September-October 2011. The third and last detailed interviews will be conducted January-March 2012.

Number of Respondents: 59,010 (47, 208 + 11,802). The estimated number of respondents reached from a sample of households will be 47,208. About 50 percent, or 23,604, of those respondents will receive a detailed interview. An additional 50 percent of those households where one person is sampled (11,802) will have a second person screened in for interviews.

Activity | Number of household responses | Number of participant responses | Completion time per response | Total burden hours
Screen | 47,208 |  | 7 minutes | 5,508
Screen - Reinterview | 789 |  | 5 minutes | 66
Hunting and Fishing - 1st Interview |  | 7,709 | 14 minutes | 1,799
Hunting and Fishing - 2d Interview |  | 15,418 | 10 minutes | 2,570
Hunting and Fishing - 3d Interview |  | 23,127 | 15 minutes | 5,782
Hunting and Fishing - Reinterview |  | 200 | 5 minutes | 17
Wildlife Watching - 1st Interview |  | 3,854 | 11 minutes | 707
Wildlife Watching - 2d Interview |  | 7,709 | 11 minutes | 1,413
Wildlife Watching - 3d Interview |  | 11,563 | 11 minutes | 2,120
Wildlife Watching - Reinterview |  | 100 | 5 minutes | 8
Totals | 47,997 | 69,680 |  | 19,990

Abstract: The information collected for the National Survey of Fishing, Hunting, and Wildlife-Associated Recreation (FHWAR) assists Federal and State agencies in administering the Sport Fish and Wildlife Restoration grant programs. The 2011 FHWAR will provide up-to-date information on the uses and demands for wildlife-related recreation resources, trends in uses of those resources, and a basis for developing and evaluating programs and projects to meet existing and future needs.

We collect the information in conjunction with carrying out our responsibilities under the Federal Aid in Sport Fish Restoration Act (16 U.S.C. 777-777M), commonly referred to as the Dingell-Johnson Act, and the Federal Aid in Wildlife Restoration Act (16 U.S.C. 669-669i), commonly referred to as the Pitman-Robertson Act. Under these acts, as amended, we provide approximately $800 million in grants annually to States for projects that support sport fish and wildlife management and restoration, including:

• Improvement of fish and wildlife habitats,

• Fishing and boating access,

• Fish stocking, and

• Hunting and fishing opportunities

.

We also provide grants for aquatic education and hunter education, maintenance of completed projects, and research into problems affecting fish and wildlife resources. These projects help to ensure that the American people have adequate opportunities for fish and wildlife recreation.

We conduct the survey about every 5 years. The 2011 FHWAR will be the 12th conducted since 1955. We sponsor the survey at the States' request, which is made through the Association of Fish and Wildlife Agencies. The Census Bureau collects the information using computer-assisted telephone or in-person interviews. The Census Bureau will select a sample of sportspersons and wildlife watchers from a household screen and conduct three detailed interviews during the survey year. The survey collects information on the number of days of participation, species of animals sought, and expenditures for trips and equipment. Information on the characteristics of participants includes age, income, sex, education, race, and residency.

Comments: On February 8, 2010, we published in the Federal Register (75 FR 6216) a notice of our intent to request that OMB renew this ICR. In that notice, we solicited comments for 60 days, ending on April 9, 2010. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: September 2, 2010.
Hope Grey,
Information Collection Clearance Officer, Fish and Wildlife Service.

[FR Doc. 2010-22461 Filed 9-8-10; 8:45 am]

BILLING CODE 4310-55-S